ENVIRONMENTAL PROTECTION AGENCY

[ER-FRL-9021-5]

Environmental Impact Statements; Notice of Availability

Responsible Agency: Office of Federal Activities, General Information (202) 564-7146 or http://www.epa.gov/compliance/nepa/.

Weekly receipt of Environmental Impact Statements (EISs)

Filed 06/08/2015 Through 06/12/2015

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150168, Draft, BR, CA, Mendota Pool Bypass and Reach 2B Channel Improvements Project EIS/EIR, Comment Period Ends: 08/10/2015, Contact: Katrina Harrison 916-978-5465.

EIS No. 20150169, Final, USFS, ID, Crooked River Valley Rehabilitation, Review Period Ends: 07/20/2015, Contact: Jennie Fischer 208-983-4048.

EIS No. 20150170, Draft, NPS, NY, Fire Island National Seashore General Management Plan, Comment Period Ends: 09/17/2015, Contact: Christopher Soller 631-687-4750.

EIS No. 20150171, Final, NOAA, PRO, PROGRAMMATIC—Habitat Restoration Activities Implemented throughout the Coastal United States, Review Period Ends: 07/20/2015, Contact: Melanie Gange 301-427-8664.

EIS No. 20150172, Draft, BLM, PRO, PROGRAMMATIC—Vegetation Treatments Using Aminopyralid, Fluroxypyr, and Rimsulfuron on Bureau of Land Management Lands in 17 Western States, Comment Period Ends: 08/03/2015, Contact: Gina Ramos 202-912-7226.

EIS No. 20150173, Draft Supplement, USACE, CO, Northern Integrated Supply Project, Comment Period Ends: 08/04/2015, Contact: John Urbanic 303-979-4120.

EIS No. 20150174, Draft, TVA, TN, Floating Houses Policy Review, Comment Period Ends: 08/18/2015, Contact: Matthew Higdon 865-632-8051.

EIS No. 20150175, Draft, USACE, NY, South Shore of Staten Island (SSSI) Coastal Storm Risk Management, Comment Period Ends: 08/10/2015, Contact: Catherine Alcoba 917-790-8216.

Amended Notices

EIS No. 20150038, Final, USFS, ID, WITHDRAWN—Crooked River Valley Rehabilitation Project, Review Period Ends: 04/13/2015, Contact: Jennie Fischer 208-983-4048.

Revision to FR Notice Published 02/20/2015; Officially Withdrawn by Preparing Agency.

Dated: June 12, 2015.
Dawn Roberts,
Management Analyst, NEPA Compliance Division, Office of Federal Activities.

[FR Doc. 2015-15154 Filed 6-18-15; 8:45 am]

BILLING CODE 6560-50-P